ELECTION ASSISTANCE COMMISSION

Sunshine Act Notice

AGENCY: United States Election Assistance Commission.

ACTION: Notice of public meeting agenda.

DATE AND TIME: Tuesday, October 25, 2005, 10 a.m.-2:30 p.m.

PLACE: U.S. Election Assistance Commission, 1225 New York Ave, NW., Suite 1100, Washington, DC 20005. (Metro Stop: Metro Center.)

AGENDA: The Commission will receive the following reports: Title II Requirements Payments Update; Voluntary Voting System Guidelines Update; and updates on other administrative matters. The Commission will receive presentations on the Timely Return of Voter Registration Applications.

This meeting will be open to the public.

PERSON TO CONTACT FOR INFORMATION: Bryan Whitener, Telephone: (202) 566-3100.

Thomas R. Wilkey,
Executive Director, U.S. Election Assistance Commission.

[FR Doc. 05-20741 Filed 10-12-05; 3:42 pm]

BILLING CODE 6820-KF-M